DEPARTMENT OF HEALTH AND HUMAN SERVICES

National Institutes of Health

National Heart, Lung, and Blood Institute; Amended Notice of Meeting

Notice is hereby given of a change in the meeting of the National Heart, Lung, and Blood Institute Special Emphasis Panel, Catalyze Product Definition, August 15, 2024, 10:00 a.m. to 2:00 p.m., National Institutes of Health, Rockledge I, 6705 Rockledge Drive, Bethesda, MD 20892 which was published in the Federal Register on July 16, 2024, 89 FR 57916.

This meeting is being amended due to a change the meeting date. The meeting will be held on September 13, 2024, from 10:00 a.m. to 2:00 p.m. The meeting is closed to the public.

Dated: July 17, 2024.
David W. Freeman,
Supervisory Program Analyst, Office of Federal Advisory Committee Policy.

[FR Doc. 2024-16054 Filed 7-19-24; 8:45 am]

BILLING CODE 4140-01-P